DEPARTMENT OF THE INTERIOR

Fish and Wildlife Service

[FWS-R1-ES-2019-N133; FXES11140100000-190-FF01E00000]

Renewal of Safe Harbor Agreement for OX Ranch, Adams County, Idaho

AGENCY: Fish and Wildlife Service, Interior.

ACTION: Notice of availability; request for comments.

SUMMARY: We, the U.S. Fish and Wildlife Service (Service), have received a written request from Hixon Properties Incorporated to renew an existing Safe Harbor Agreement (SHA). The participants in the SHA are OX Ranch (Hixon Properties Incorporated and affiliated business entities doing business collectively), the Idaho Department of Fish and Game, and the Service. Continued implementation of the SHA is intended to benefit the recovery of the federally listed threatened northern Idaho ground squirrel in Adams County, Idaho. The Service is making the proposed SHA renewal and our draft environmental action statement (EAS) available for public review and comment.

DATES: All comments from interested parties must be received on or before November 14, 2019.

ADDRESSES: To request further information, obtain copies of documents, or submit written comments, please use one of the following methods. Please include your name and return address in your comments and refer to the “Safe Harbor Agreement for Northern Idaho Ground Squirrel”:

• Internet: Documents may be viewed on the internet at http://www.fws.gov/Idaho.

• Email: ifwo@fws.gov. Include “Safe Harbor Agreement for Northern Idaho Ground Squirrel” in the subject line of the message.

• U.S. Mail: State Supervisor, Idaho Fish and Wildlife Office, U.S. Fish and Wildlife Service, 1387 South Vinnell Way, Suite 368, Boise, ID 83709.

• In-Person Drop-off, Viewing, or Pickup: Documents will be available for public inspection, by appointment, between 8 a.m. and 5 p.m. at the U.S. Fish and Wildlife Service's Idaho Fish and Wildlife Office.

• Fax: Idaho Fish and Wildlife Office, 208-378-5262, Attn: Safe Harbor Agreement for Northern Idaho Ground Squirrel.

FOR FURTHER INFORMATION CONTACT: Greg Burak, U.S. Fish and Wildlife Service, Idaho Fish and Wildlife Office (see ADDRESSES), telephone 208-378-5243, or email ifwo@fws.gov. If you use a telecommunications device for the deaf, please call the Federal Relay Service at 800-877-8339.

SUPPLEMENTARY INFORMATION: We, the U.S. Fish and Wildlife Service (Service), have received a written request dated May 30, 2019, from Hixon Properties Incorporated to renew an existing Safe Harbor Agreement (SHA) for an additional 5 years beyond its current expiration date of September 28, 2019. The existing enhancement of survival permit (permit) associated with the SHA was issued August 13, 2009, pursuant to the ESA (16 U.S.C. 1531 et seq.), and is in effect until September 28, 2024. Renewing the SHA for an additional 5 years would make the expiration date the same as the expiration date of the permit. The SHA is between Hixon Properties Incorporated (owner), Rocky Comfort Cattle Company, LLC (lessee), and affiliated business entities doing business as the OX Ranch collectively, the Idaho Department of Fish and Game (IDFG), and the Service. Renewing the SHA is intended to benefit the recovery of the federally listed threatened northern Idaho ground squirrel (Urocitellus brunneus) on 7,783 acres (ac) of privately owned land in Adams County, Idaho. The SHA management actions to benefit the northern Idaho ground squirrel include habitat maintenance and enhancement, predator/competitor control, shooting prohibitions, outreach, surveys, monitoring, and research. The activities implemented under this SHA will aid in increasing the current range of the covered species, restoring this species to part of its historic range, and increasing the total population of the species, thus contributing to its overall recovery. The Service is making the proposed SHA renewal and our draft EAS available for public review and comment, including the submission of written data. The draft EAS supports our preliminary determination that the proposed SHA renewal is eligible for categorical exclusion under the National Environmental Policy Act of 1969, as amended (NEPA; 42 U.S.C. 4321 et seq.).

Background

Section 9 of the ESA prohibits the take of fish and wildlife species listed as endangered or threatened under section 4 of the ESA. Under the ESA, the term “take” means to harass, harm, pursue, hunt, shoot, wound, kill, trap, capture, or collect, or to attempt to engage in any such conduct (16 U.S.C. 1532(19)). The term “harm,” as defined in our regulations, includes significant habitat modification or degradation that results in death or injury to listed species by significantly impairing essential behavioral patterns, including breeding, feeding, or sheltering (50 CFR 17.3). The term “harass” is defined in our regulations as an intentional or negligent act or omission which creates the likelihood of injury to wildlife by annoying it to such an extent as to significantly disrupt normal behavioral patterns, which include, but are not limited to, breeding, feeding, or sheltering (50 CFR 17.3). Under specified circumstances, however, we may issue permits that authorize take of federally listed species, provided the take is incidental to, but not the purpose of, an otherwise lawful activity. Regulations governing permits for threatened species are at 50 CFR 17.32.

Under a SHA, participating landowners voluntarily undertake management activities on their property to enhance, restore, or maintain habitat benefiting species listed under the ESA. SHAs, and the subsequent permit issued to participating landowners pursuant to section 10(a)(1)(A) of the ESA, encourage private and other non-Federal property owners to implement conservation actions for federally listed species by assuring the landowners that they will not be subjected to increased property use restrictions as a result of their efforts to either attract listed species to their property, or to increase the numbers or distribution of listed species already on their property. Enrolled landowners may make lawful use of the enrolled property during the permit term and may incidentally take the listed species named on the permit. Application requirements and issuance criteria for permits associated with SHAs are found in the Code of Federal Regulations (CFR) at 50 CFR 17.22(c) and 17.32(c). As provided for in the Service's final Safe Harbor Policy (64 FR 32717; June 17, 1999), SHAs provide assurances that allow the property owner to alter or modify their enrolled property, even if such alteration or modification results in the incidental take of a listed species, to such an extent that the property is returned back to the originally agreed upon baseline conditions. Private landowners may voluntarily terminate an SHA at any time and in accordance with 50 CFR 13.26. If this occurs, landowners must relinquish the associated incidental take permit pursuant to section 10(a)(1)(A) of the ESA.

Safe Harbor Agreement

The private lands covered under the existing SHA and permit consist of 7,783 ac on the OX Ranch, and are located just north of Bear, in Adams County, Idaho. Northern Idaho ground squirrels currently occupy 610 ac of the covered area. The 610 ac is considered the baseline. When the existing permit expires on September 28, 2024, the OX Ranch is allowed to return their property to baseline.

The expected net conservation benefit to the northern Idaho ground squirrel as a result of the SHA is the maintenance of the 610-ac baseline area, allowing researchers affiliated with the Service or IDFG to access OX Ranch property; requiring notification of the Service and IDFG prior to activities that will result in “take” of the species so that they may capture and relocate affected individuals if appropriate; allowing the Service and IDFG personnel access to the property to conduct ground squirrel conservation activities approved by the applicant such as habitat maintenance and enhancement, ground squirrel surveys, and translocation of ground squirrels; and establishing some limits on the conduct of chemical rodent control in the squirrel management area. In addition, the applicant may also work with the Service and others to implement timber-related habitat enhancement measures that will potentially increase habitat for squirrels within the covered area. The biological goal of northern Idaho ground squirrel conservation measures in the SHA is to expand this species' population within and beyond the 610-ac baseline area by reducing threats and enhancing habitat for the species. The SHA is intended to contribute to the recovery of the northern Idaho ground squirrel by reducing threats, expanding and increasing the viability of the ground squirrel population at this site, improving habitat conditions, and potentially facilitating translocation of ground squirrels to other sites in need of population supplementation, as appropriate.

The SHA management actions to benefit the northern Idaho ground squirrel include habitat maintenance and enhancement, predator/competitor control, shooting prohibitions, outreach, surveys, monitoring, and research.

The OX Ranch has met obligations outlined in the 2009 SHA. For example, they have carried out habitat enhancement projects on their land and have participated in multiple habitat enhancement studies by providing access to their property for research purposes (i.e., Suronen and Newingham 2013, Goldberg 2018). They have allowed the installation of no-shooting signs on their property, conducted outreach, allowed needed surveys and monitoring to be carried out on an annual basis by the IDFG (i.e., Wagner and Evans Mack 2019), and have allowed limited predator control to be carried out on their property on an as-needed basis. Renewing the SHA for an additional 5 years will provide continued conservation benefits on OX Ranch lands for the northern Idaho ground squirrel.

National Environmental Policy Act Compliance

The renewal of the SHA is a Federal action that triggers the need for compliance with NEPA. The Service has made a preliminary determination that the proposed SHA renewal is eligible for categorical exclusion under NEPA, based on the following criteria: (1) Implementation of the SHA would result in minor or negligible adverse effects on federally listed, proposed, and candidate species and their habitats; (2) implementation of the SHA would result in minor or negligible adverse effects on other environmental values or resources; and (3) impacts of the SHA, considered together with the impacts of other past, present, and reasonably foreseeable similarly situated projects, would not result, over time, in cumulative adverse effects to environmental values or resources which would be considered significant. We explain the basis for this determination in more detail in an EAS that is also available for public review.

Public Comments

You may submit your comments and materials by one of the methods listed in the ADDRESSES section. We request data, comments, new information, or suggestions from the public, other concerned governmental agencies, the scientific community, Tribes, industry, or any other interested party on our proposed Federal action.

Public Availability of Comments

All comments and materials we receive become part of the public record associated with this action. Before including your address, phone number, email address, or other personal identifying information in your comments, you should be aware that your entire comment—including your personal identifying information—may be made publicly available at any time. While you can ask us in your comment to withhold your personal identifying information from public review, we cannot guarantee that we will be able to do so. Comments and materials we receive, as well as supporting documentation we use in preparing the EAS, will be available for public inspection by appointment, during normal business hours, at our Idaho Fish and Wildlife Office (see ADDRESSES).

Authority

We provide this notice in accordance with the requirements of section 10(c) of the ESA (16 U.S.C. 1531 et seq.) and NEPA 42 U.S.C. 4321 et seq.) and their implementing regulations (50 CFR 17.22, and 40 CFR 1506.6, respectively).

Rolland G. White,
Acting Regional Director, U.S. Fish and Wildlife Service.

[FR Doc. 2019-22439 Filed 10-11-19; 8:45 am]

BILLING CODE 4333-15-P